DEPARTMENT OF HEALTH AND HUMAN SERVICES

National Institutes of Health

Center for Scientific Review; Amended Notice of Meeting

Notice is hereby given of a change in the meeting of the Hypertension and Microcirculation Study Section, February 08, 2018, 08:00 a.m. to February 09, 2018, 06:00 p.m., Hilton Garden Inn Orlando East UCF, 1959 N. Alafaya Trail, Orlando, FL 32822 which was published in the Federal Register on January 05, 2018, 83 FR PG 683.

The meeting will be held on February 8, 2018 at 08:00 a.m. and end 06:00 p.m. The meeting location remains the same. The meeting is closed to the public.

Dated: January 25, 2018.
David Clary,
Program Analyst, Office of Federal Advisory Committee Policy.

[FR Doc. 2018-01819 Filed 1-30-18; 8:45 am]

BILLING CODE 4140-01-P